DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 05-061. Applicant: University of Michigan, 2355 Bonisteel Boulevard, Ann Arbor, MI 48109-2104. Instrument: Application Specific Integrated Circuit. Manufacturer: Ideas ASA, Norway. Intended Use: The instrument is intended to be used as a compatible accessory for a unique 3-dimensional position sensitive CdZnTe semiconductor gamma-ray spectrometer. The article consists of a multi-channel charge sensing amplifier with very low noise of about 300 electrons rms for which three iterations have been developed in collaboration with Ideas ASA. The systems can get energy and 3D position information for not only single-interaction events, but for multiple-interaction events by using electron drift times. Excellent energy resolution for both single-interaction events (0.8% FWHM at 662 keV) and multiple-interaction events (1.3% FWHM at 662 keV) has been achieved. A new scalable detector array system with plug-in electronics is required for further development of the spectrometer. Application accepted by Commissioner of Customs: December 27, 20005.

Docket Number: 05-062. Applicant: University of Texas Medical Branch at Galveston, 301 University Boulevard, Galveston, TX 77555. Instrument: Electron Microscope, Model JEM-2200FS. Manufacturer: JEOL, Ltd., Japan. Intended Use: The instrument is intended to be used to examine and study:

(1) Biological macromolecules, cellular organelles and viruses

(2) Three dimensional structure

(3) Electron Microscope imaging at cryogenic temperatures

(4) Structure-functional relationship to pathologic potential

(5) Low electron radiation dose imaging of frozen-hydrated viruses to preserve structure.

Application accepted by Commissioner of Customs: December 27, 2005.

Gerald A. Zerdy,
Program Manager, Statutory Import Programs Staff.

[FR Doc. E6-236 Filed 1-11-06; 8:45 am]

BILLING CODE 3510-DS-S